DEPARTMENT OF COMMERCE

Foreign-Trade Zones Board

[Order No. 2109]

Production Authority Not Approved, Foreign-Trade Zone 8, Arbor Foods Inc. (Blended Syrup), Toledo, Ohio

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Toledo-Lucas County Port Authority, grantee of FTZ 8, has requested production authority on behalf of Arbor Foods Inc. (Arbor), within FTZ 8 in Toledo, Ohio (B-63-2019, docketed October 10, 2019);

Whereas, notice inviting public comment has been given in the Federal Register (84 FR 55549, October 17, 2019) and the application has been processed pursuant to the FTZ Act and the Board's regulations; and,

Whereas, the Board adopts the finding and recommendation of the examiner's report, and finds that the requirements of the FTZ Act and the Board's regulations have not been satisfied;

Now, therefore, the Board hereby does not approve the application requesting production authority under zone procedures within FTZ 8 for Arbor, as described in the application and Federal Register notice.

Dated: December 28, 2020.
Jeffrey I. Kessler,
Assistant Secretary for Enforcement and Compliance, Alternate Chairman, Foreign-Trade Zones Board.

[FR Doc. 2020-28976 Filed 12-30-20; 8:45 am]

BILLING CODE 3510-DS-P